DEPARTMENT OF AGRICULTURE

Cooperative State Research, Education, and Extension Service

Notice of Intent To Revise a Currently Approved Information Collection

AGENCY: Cooperative State Research, Education, and Extension Service, USDA.

ACTION: Notice and request for comments.

SUMMARY: In accordance with the Paperwork Reduction Act of 1995 and Office of Management and Budget (OMB) regulations at 5 CFR part 1320, this notice announces the intent of the Cooperative State Research, Education, and Extension Service (CSREES) to request approval for revision of the currently approved information collection for the CSREES application review process.

DATES: Written comments on this notice must be received by October 8, 2008, to be assured of consideration. Comments received after that date will be considered to the extent practicable.

ADDRESSES: You may submit comments, by any of the following methods:

Mail: Information Collection Officer, CSREES, USDA, STOP 2216, 1400 Independence Avenue, SW., Washington, DC 20250-2216; Hand Delivery/Courier: 800 9th Street, SW., Waterfront Centre, Room 4217, Washington, DC 20024; Fax: 202-720-0857; or e-mail: jhitchcock@csrees.usda.gov.

FOR FURTHER INFORMATION CONTACT: Jason Hitchcock, jhitchcock@csrees.usda.gov.

SUPPLEMENTARY INFORMATION: Title: CSREES Application Review Process.

OMB Number: 0524-0041.

Expiration Date of Current Approval: 01/31/2009.

Type of Request: Intent to seek approval for the revision of a currently approved information collection for three years.

Abstract: CSREES is responsible for performing a review of applications submitted to CSREES competitive award programs in accordance with section 103(a) of the Agricultural Research, Extension, and Education Reform Act of 1998, 7 U.S.C. 7613(a). Reviews are undertaken to ensure that projects supported by CSREES are of high quality and are consistent with the goals and requirements of the funding program.

Applications submitted to CSREES undergo a programmatic evaluation to determine worthiness of Federal support. The evaluations consist of a peer panel review and may also entail an assessment by Federal employees and ad hoc reviews.

Need and Use of the Information: The CSREES Application Review Process is accomplished through the use of the CSREES Peer Review System (PRS), a Web-based system which allows reviewers and potential reviewers to update personal information and to complete and submit reviews electronically to CSREES.

Given the highly technical nature of many of these applications, the quality of the peer review greatly depends on the appropriate matching of the subject matter of an application with the technical expertise of a potential reviewer.

Information about potential panel and ad hoc reviewers is collected via an electronic questionnaire. New reviewers are prompted via an e-mail message to complete the questionnaire. The information from the completed questionnaire is loaded into a CSREES database system. The questionnaire collects basic biographical information including address, contact information, and professional expertise. If a reviewer's information is already included in the database, then the questionnaire serves as a request for the potential reviewer to update her/his information. Information in the database system is then used to match applications with the most appropriate (potential) reviewers.

When a reviewer is selected by CSREES and the reviewer agrees to perform a review, the application and associated materials are then made available to her/him. With respect to the application, a reviewer must assure s/he: (1) Will comply with the CSREES Confidentiality Guidelines and (2) does not have a conflict of interest. Upon completion of a review, the reviewer completes various worksheets in PRS evaluating an application against established criterion providing comments as necessary. If appropriate, a peer panel is convened to review and discuss proposals and make funding recommendations.

Information collected from the reviews and/or peer panel is used to determine whether an application is to be recommended for award. When CSREES has rendered a decision, copies of reviews (excluding the names of the reviewers) and summaries of review panel deliberations, if any, are provided to the submitting Project Director.

The CSREES review process is recognized by the grantee and grantor community for its quality.

Estimate of Burden: CSREES estimates that six hours are required to review an application on average. Applications receive an average of four written reviews. CSREES estimates that the potential reviewer questionnaire takes 10 minutes to complete. This estimate was based on feedback from a small sample of reviewers that participated in the completion of the reviewer questionnaire and the completion and submission of application reviews for the CSREES.

Comments: Comments are invited on: (a) Whether the proposed collection of information is necessary for the proper performance of the functions of the Agency, including whether the information will have practical utility; (b) the accuracy of the Agency estimate of the burden of the proposed collection of information; (c) ways to enhance the quality, utility, and clarity of the information to be collected; and (d) ways to minimize the burden of the collection of information on those who are to respond, including through the use of appropriate automated, electronic, mechanical, or other technological collection techniques or other forms of information technology. All responses to this notice will be summarized and included in the request to OMB for approval. All comments will become a matter of public record.

Done at Washington, DC, this 17th day of July, 2008.
Gale Buchanan,
Under Secretary, Research, Education, and Economics.

[FR Doc. E8-17648 Filed 8-1-08; 8:45 am]

BILLING CODE 3410-22-P